DEPARTMENT OF THE INTERIOR

Office of the Secretary

[Docket No. ONRR-2012-0003; DS63600000 DR2PS0000.PX8000 134D0102R2]

U.S. Extractive Industries Transparency Initiative Multi-Stakeholder Group (USEITI MSG) Advisory Committee

AGENCY: Policy, Management and Budget, Interior.

ACTION: Meeting.

SUMMARY: This notice announces the meeting date change of the United States Extractive Industries Transparency Initiative (USEITI) Multi-Stakeholder Group (MSG) Advisory October 1-2, 2013, Washington, DC.

Dates and Times: The October 1-2 meeting has been moved to November 5-6, 2013, and will occur in-person from 9:30 a.m. to 5:00 p.m. Eastern Time each day, unless otherwise indicated at www.doi.gov/eiti/faca, where agendas, meeting logistics, and meeting materials will be posted.

ADDRESSES: The November 5-6, 2013, meeting will be held in Room 5160 of the Main Interior Building, 1849 C Street NW., Washington, DC 20240. Members of the public may attend in person, or view documents and presentations under discussion via WebEx at http://bit.ly/ZQ9aQP and listen to the proceedings at telephone number 1-866-707-0640 (passcode: 1500538).

FOR FURTHER INFORMATION CONTACT: Rosita Compton Christian, USEITI Secretariat; 1849 C Street NW., MS-4211, Washington, DC 20240. You may also contact the USEITI Secretariat via email at useiti@ios.doi.gov, by phone at 202-208-0272, or by fax at 202-513-0682.

SUPPLEMENTARY INFORMATION: The U.S. Department of the Interior established the USEITI Advisory Committee (Committee) on July 26, 2012, to serve as the initial USEITI multi-stakeholder group. More information about the Committee, including its charter, can be found at www.doi.gov/eiti/faca. The agenda for the November 5-6 in-person meeting will include continued review of the U.S. draft candidacy application for EITI, guidance from EITI experts, and a discussion of next steps toward attaining candidacy.

The final agendas and materials for the meeting will be posted on the USEITI MSG Web site at www.doi.gov/eiti/faca. All Committee meetings are open to the public.

If you require special assistance (such as an interpreter for the hearing impaired), please notify Interior staff in advance of the meeting at 202-208-0272 or via email at useiti@ios.doi.gov. Anyone wishing to provide comments during the public comment period must submit written statements to useiti@doi.gov by November 1, 2013. In addition, individuals or groups wishing to make comments in person or via the teleconference line may do so during the designated time on the agenda, as time permits.

The minutes from these proceedings will be posted on our internet site at http://www.doi.gov/eiti/faca and will also be available for public inspection and copying at our office in the Main Interior Building in Washington, DC, by contacting Interior staff at useiti@ios.doi.gov or by telephone at 202-208-0272. For more information on USEITI, visit http://www.doi.gov/eiti.

Dated: September 26, 2013.
Karen Senhadji,
Senior Advisor—Policy, Management and Budget, Department of the Interior.

[FR Doc. 2013-24043 Filed 9-30-13; 8:45 am]

BILLING CODE P